DEPARTMENT OF ENERGY

Federal Energy Regulatory Commission

Notice of Staff Attendance at North American Electric Reliability Corporation Security Integration and Technology Enablement Subcommittee Quarterly Meeting

The Federal Energy Regulatory Commission hereby gives notice ¹ that members of the Commission and/or Commission staff may attend the following meetings:

¹ 18 CFR 385.2009 (2023).

North American Electric Reliability Corporation: Security Integration and Technology Enablement Subcommittee Quarterly Meeting, WebEx

July 23, 2024 | 12:00 p.m.-2:00 p.m. Eastern

Further information regarding this meeting and how to join remotely may be found at: https://www.nerc.com/pa/RAPA/Lists/RAPA/DispForm.aspx?ID=690.

The discussions at the meetings, which are open to the public, may address matters at issue in the following Commission proceedings:

Docket No. RR24-2-000—North American Electric Reliability Corporation

For further information, please contact Leigh Anne Faugust at (202) 502-6396 or leigh.faugust@ferc.gov.

Dated: July 11, 2024.
Debbie-Anne A. Reese,
Acting Secretary.

[FR Doc. 2024-15738 Filed 7-19-24; 8:45 am]

BILLING CODE 6717-01-P